FEDERAL MARITIME COMMISSION

[Docket No. 24-16]

Samsung Electronics America, Inc., Complainant, v. COSCO Shipping Lines Co., Ltd., Respondent; Notice of Filing of Complaint and Assignment

Served: March 28, 2024.

Notice is given that a complaint has been filed with the Federal Maritime Commission (the “Commission”) by Samsung Electronics America, Inc. (the “Complainant”) against COSCO Shipping Lines Co., Ltd. (the “Respondent”). Complainant states that the Commission has subject matter jurisdiction over this complaint pursuant to the Shipping Act of 1984, 46 U.S.C. 40101, et seq. and personal jurisdiction over the Respondent as a common carrier and as a vessel-operating ocean common carrier as these terms are defined in 46 U.S.C. 40102.

Complainant is a corporation organized and existing under the laws of the State of New York with a principal place of business in Ridgefield Park, New Jersey.

Complainant identifies Respondent as a global ocean carrier with its corporate office in Shanghai, China who conducts business in the United States under COSCO Shipping (North America) Inc. with its principal corporate office in Secaucus, New Jersey.

Complainant alleges that Respondent violated 46 U.S.C. 41102(c) and (d), and 41104(a)(3), (10), (14), and (15); and 46 CFR 545.4 and 545.5. Complainant alleges these violations arose from a failure to perform and a delay in performance of inland transportation obligations on “store door” shipments, and other acts and omissions of the Respondent, that resulted in damages, such as unreasonable costs, demurrage and detention charges, and delay.

An answer to the complaint must be filed with the Commission within 25 days after the date of service.

The full text of the complaint can be found in the Commission's electronic Reading Room at https://www2.fmc.gov/readingroom/proceeding/24-16/. This proceeding has been assigned to the Office of Administrative Law Judges. The initial decision of the presiding judge shall be issued by March 28, 2025, and the final decision of the Commission shall be issued by October 14, 2025.

David Eng,
Secretary.

[FR Doc. 2024-06936 Filed 4-1-24; 8:45 am]

BILLING CODE 6730-02-P